DEPARTMENT OF THE TREASURY

Request for Comments on Treasury's Report to Congress on International and Exchange Rate Policies

AGENCY: Office of the Under Secretary for International Affairs, Treasury.

ACTION: Request for comments.

SUMMARY: The Office of the Under Secretary for International Affairs of the U.S. Department of the Treasury invites all interested parties to comment on the methodology used in preparing its semi-annual report to Congress on International and Exchange Rate Policies and to submit views on the contents of its next report.

DATES: Written comments must be received on or before April 7, 2006.

ADDRESSES: Comments may be submitted by mail, facsimile or email. All comments should contain the following information in the heading: “Attn: Request for Public Comments on the Report to Congress on International and Exchange Rate Policies.”

Mailing address: Office of the Under Secretary for International Affairs, Department of the Treasury, 1500 Pennsylvania Avenue, NW., Washington, DC 20220.

Facsimile: (202) 622-2009 (not a toll-free number).

Email: ashby.mccown@do.treas.gov.

For further information concerning the submission of comments, refer to the heading “Request for Comments” in the SUPPLEMENTARY INFORMATION portion of this notice.

FOR FURTHER INFORMATION CONTACT: John Weeks, Director, Global Economics Unit, Department of the Treasury, 1500 Pennsylvania Avenue, NW., Washington, DC 20220, (202) 622-9885 (not a toll-free number), john.weeks@do.treas.gov.

SUPPLEMENTARY INFORMATION:

Background

Section 3004 of Public Law 100-418 (22 U.S.C. 5304) requires, inter alia, that the Secretary of the Treasury analyze on an annual basis the exchange rate policies of foreign countries, in consultation with the International Monetary Fund, and consider whether countries manipulate the rate of exchange between their currency and the United States dollar for purposes of preventing effective balance of payments adjustment or gaining unfair competitive advantage in international trade. Section 3004 further requires that: “If the Secretary considers that such manipulation is occurring with respect to countries that (1) have material global current account surpluses; and (2) have significant bilateral trade surpluses with the United States, the Secretary of the Treasury shall take action to initiate negotiations with such foreign countries on an expedited basis, in the International Monetary Fund or bilaterally, for the purpose of ensuring that such countries regularly and promptly adjust the rate of exchange between their currencies and the United States dollar to permit effective balance of payment adjustments and to eliminate the unfair advantage.”

Section 3005 (22 U.S.C. 5305) requires, inter alia, the Secretary of the Treasury to provide each six months a report on international economic policy, including exchange rate policy. Among other matters, the reports are to contain the results of negotiations conducted pursuant to Section 3004. Each of these reports bears the title, Report to Congress on International Economic and Exchange Rate Policies, (the “Report”).

Treasury is soliciting comments on the methods used by Treasury to analyze the economies and exchange rate policies of foreign countries in order to help improve the process of carrying out its responsibilities under Sections 3004 and 3005. The most recent Report can be found on the Web site of the Office of the Under Secretary for International Affairs, at http://www.treas.gov/offices/international-affairs/economic-exchange-rates/. Treasury is also soliciting views on approaches that might be fruitful in the upcoming spring 2006 Report.

Request for Comments

Comments must be submitted in writing by one of the methods specified in the ADDRESSES portion of this notice. All comments should contain the following information in the heading: “Attn: Request for Comments on the Report to Congress on International and Exchange Rate Policies.” Comments must be received by April 7, 2006. Treasury requests that comments be no more than two pages in length.

The Office of the Under Secretary for International Affairs will not accept comments accompanied by a request that all or part of the submission be treated as confidential because of its business proprietary nature or for any other reason. All comments received by April 7, 2006 will be a matter of public record.

Clay Lowery,
Assistant Secretary of the Treasury.

[FR Doc. 06-2768 Filed 3-20-06; 8:45 am]

BILLING CODE 4811-37-P